DEPARTMENT OF ENERGY

[OE Docket No. EA-296-B]

Application to Export Electric Energy; Rainbow Energy Marketing Corporation

AGENCY: Office of Electricity Delivery and Energy Reliability, DOE.

ACTION: Notice of application.

SUMMARY: Rainbow Energy Marketing Corporation (Rainbow) has applied to renew its authority to transmit electric energy from the United States to Canada pursuant to section 202(e) of the Federal Power Act (FPA).

DATES: Comments, protests, or motions to intervene must be submitted on or before May 4, 2012.

ADDRESSES: Comments, protests, or motions to intervene should be addressed to: Christopher Lawrence, Office of Electricity Delivery and Energy Reliability, Mail Code: OE-20, U.S. Department of Energy, 1000 Independence Avenue SW., Washington, DC 20585-0350. Because of delays in handling conventional mail, it is recommended that documents be transmitted by overnight mail, by electronic mail to Christopher.Lawrence@hq.doe.gov, or by facsimile to 202-586-8008.

FOR FURTHER INFORMATION CONTACT: Christopher Lawrence (Program Office) at 202-586-5260, or by email to Christopher.Lawrence@hq.doe.gov.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C. 824a(e)).

On November 9, 2004 the Department of Energy (DOE) issued Order No. EA-296 authorizing Rainbow to transmit electric energy from the United States to Canada as a power marketer for a two-year term. That Order expired on November 9, 2006. On September 17, 2007, DOE issued Order No. EA-210-A to Rainbow for a five-year term. That Order will expire on September 17, 2012. On March 13, 2012, Rainbow filed an application with DOE for renewal of the export authority contained in Order No. EA-296-A for an additional five-year term.

Note: You need to start identifying more specifics about the applicant, such as the type of entity.

In its application, Rainbow states that it “does not own or control any physical electric generation or transmission facilities in the U.S. and does not have any franchised service territory in the U.S.” Therefore, the electric power proposed to be exported to Canada will be surplus to the needs of the entities selling power to Rainbow. The application also indicates that Rainbow is a power marketer authorized by the Federal Energy Regulatory Commission to sell energy, capacity, and specified ancillary services at market-based rates.

The existing international transmission facilities to be utilized by Rainbow have previously been authorized by Presidential permits issued pursuant to Executive Order 10485, as amended, and are appropriate for open access transmission by third parties.

Procedural Matters: Any person desiring to be heard in this proceeding should file a comment or protest to the application at the address provided above. Protests should be filed in accordance with Rule 211 of the Federal Energy Regulatory Commission's (FERC) Rules of Practice and Procedures (18 CFR 385.211). Any person desiring to become a party to these proceedings should file a motion to intervene at the above address in accordance with FERC Rule 214 (385.214). Five copies of such comments, protests, or motions to intervene should be sent to the address provided above on or before the date listed above.

Comments on the Rainbow application to export electric energy to Canada should be clearly marked with OE Docket No. 296-B. An additional copy is to be filed directly with Joseph M. Wolfe, Rainbow Energy Marketing Corporation, Kirkwood Office Tower, 919 South 7th Street, Suite 405, Bismarck, ND 58504. A final decision will be made on this application after the environmental impacts have been evaluated pursuant to DOE's National Environmental Policy Act Implementing Procedures (10 CFR Part 1021) and after a determination is made by DOE that the proposed action will not have an adverse impact on the reliability of the U.S. electric power supply system.

Copies of this application will be made available, upon request, for public inspection and copying at the address provided above, by accessing the program Web site at http://energy.gov/node/11845 or by emailing Angela Troy at Angela.Troy@hq.doe.gov.

Dated: Issued in Washington, DC, on March 29, 2012.
Brian Mills,
Director, Permitting and Siting, Office of Electricity Delivery and Energy Reliability.

[FR Doc. 2012-8081 Filed 4-3-12; 8:45 am]

BILLING CODE 6450-01-P